COMMITTEE FOR THE IMPLEMENTATION OF TEXTILE AGREEMENTS

Announcement of the Paperless ELVIS (Electronic Visa Information System) Requirement for Certain Cotton, Wool, Man-Made Fiber, Silk Blend and Other Vegetable Fiber Textiles and Textile Products Produced or Manufactured in the Republic of Korea

May 5, 2003.

AGENCY: Committee for the Implementation of Textile Agreements (CITA)

ACTION: Issuing a directive to the Commissioner, Bureau of Customs and Border Protection eliminating the paper visa requirement.

EFFECTIVE DATE: May 19, 2003.

FOR FURTHER INFORMATION CONTACT: Shikha Bhatnagar, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

In an exchange of notes on March 6, 2003 and March 20, 2003, the Governments of the United States and the Republic of Korea agreed to the paperless Electronic Visa Information System (ELVIS). This arrangement provides for electronic transmission of visa information to the Bureau of Customs and Border Protection by the Government of the Republic of Korea for textiles and textile products exported to the United States which describes the shipment and includes the visa number assigned to the shipment. The transmission certifies the country of origin and authorizes the shipment to be charged against any applicable quota.

Effective on May 19, 2003, for entry into the United States, the paper visa requirement is eliminated for textiles and textile products, produced or manufactured in the Republic of Korea and exported on or after May 19, 2003. The Government of the Republic of Korea must issue an ELVIS transmission for each shipment of textiles and textile products exported on or after May 19, 2003. For exempt product shipments, the paper exempt certification remains unchanged and an ELVIS transmission is not required.

In the letter published below, the Chairman of CITA directs the Commissioner of the Bureau of Customs and Border Protection to eliminate the paper visa requirement and to require an ELVIS transmission for shipments of certain textiles and textile products, produced or manufactured in the Republic of Korea and exported to the United States on or after May 19, 2003. A description of the textile and apparel categories in terms of HTS numbers is available in the CORRELATION: Textile and Apparel Categories with the Harmonized Tariff Schedule of the United States (see Federal Register notice 68 FR 1599, published on January 13, 2003). See also 61 FR 69082, published on December 31, 1996; and 56 FR 18574, published on April 23, 1991, as amended.

Goods integrated into GATT 1994 in Stages II and III by the United States will not require an ELVIS transmission (see Federal Register notices 63 FR 53881, published on October 7, 1998 and 66 FR 63225, published on December 5, 2001). An ELVIS transmission will continue to be required for non-integrated products.

Interested persons are advised to take all necessary steps to ensure that textile products that enter into the United States for consumption, or withdrawn from warehouse for consumption, will meet the visa requirements set forth in the letter published below to the Commissioner, Bureau of Customs and Border Protection.

D. Michael Hutchinson,
Acting Chairman, Committee for the Implementation of Textile Agreements.

Committee for the Implementation of Textile Agreements

May 5, 2003.

Commissioner,

Bureau of Customs and Border Protection, Washington, DC 20229.

Dear Commissioner: this directive amends, but does not cancel, the directive issued to you on December 24, 1996, as amended, by the Chairman, Committee for the Implementation of Textile Agreements, that directed you to prohibit entry of certain cotton, wool, man-made fiber, silk blend and other vegetable fiber textiles and textile products, produced or manufactured in the Republic of Korea for which the Government of the Republic of Korea has not issued an appropriate export visa and Electronic Visa Information System (ELVIS) transmission, or exempt certification.

Effective on May 19, 2003, the paper visa will no longer be required for the entry of shipments of textiles and textile products, produced or manufactured in the Republic of Korea and exported to the United States on or after May 19, 2003. For exempt product shipments, the paper exempt certification will remain unchanged.

Under the terms of Section 204 of the Agricultural Act of 1956, as amended (7 U.S.C. 1854); Executive Order 11651 of March 3, 1972, as amended; and pursuant to the Uruguay Round Agreement on Textiles and Clothing and the Electronic Visa Information System (ELVIS) Arrangement of March 6, 2003 and March 20, 2003 between the Government of the United States and the Republic of Korea; and in accordance with the provisions of Executive Order 11651 of March 3, 1972, as amended, you are directed to prohibit, effective on May 19, 2003, entry into the Customs territory of the United States (i.e. the 50 states, the District of Columbia and the Commonwealth of Puerto Rico) for consumption and withdrawal from warehouse for consumption of cotton, wool, man-made fiber, silk blend and other vegetable fiber textiles and textile products in Categories 200-239, 300-369, 400-469, 600-670, and 800-899, including part categories and merged categories, produced or manufactured in the Republic of Korea and exported on or after May 19, 2003 for which the Republic of Korea has not issued an Electronic Visa Information System (ELVIS) transmission fully described below. Exempt product shipments do not require an ELVIS transmission. The list of part categories, merged categories and exempt products remains unchanged.

An ELVIS message must accompany each commercial shipment of the aforementioned textile products.

A. Each ELVIS transmission shall include the following information:

a. The visa number: The visa number shall be in the standard nine digit letter format beginning with one numeric digit for the last digit of the year of export, followed by the two character alpha code specified by the International Organization for Standardization (ISO) (The code for Korea is KR), and a six digit numerical serial number identifying the shipment; e.g., 3KR123456.

b. The date of issuance: The date of issuance shall be the day, month and year on which the visa was issued.

c. The correct category(s), merged category(s), part category(s), quantity(s), and unit(s) of quantity of the shipment in the unit(s) of quantity provided for in the U.S. Department of Commerce Correlation and in the Harmonized Tariff Schedule of the United States, Annotated or successor documents. Quantities must be quoted in whole numbers. Decimals or fractions will not be accepted.

d. The manufacturer ID code.

B. Entry of a shipment shall not be permitted:

a. if an ELVIS transmission has not been received for the shipment from the Republic of Korea;

b.if the ELVIS transmission for that shipment is missing any of the following information:

i. visa number

ii. category, part category, or merged category

iii.quantity

iv. unit of measure

v. date of issuance

vi. manufacturer ID number

c. if the ELVIS transmission for the shipment does not match the information supplied by the importer, or the Customs broker acting as an agent on behalf of the importer, with regard to any of the following:

i. visa number

ii. category, part category, or merged category

iii. unit of measure

d.If the quantity being entered is greater than the quantity transmitted.

e. If the visa number has previously been used, except in the case of a split shipment, or cancelled, except when entry has already been made using the visa number.

C. A new, correct ELVIS transmission from the Republic of Korea is required before a shipment that has been denied entry for one the circumstances mentioned above will be released.

D. Visa waivers will only be accepted if the shipment qualifies for a one-time special purpose shipment that is not part of an ongoing commercial enterprise. A visa waiver may be issued by the Department of Commerce at the request of the Korea Embassy in Washington, DC. A visa waiver only waives the requirements to present an ELVIS transmission at entry, and does not waive any quota requirements.

E. In the event of a systems failure, shipments will not be released for twenty-four hours or 1 calendar day. If system failure exceeds twenty-four hours or 1 calendar day, for the remaining period of the system failure, the Bureau of Customs and Border Protection will release shipments on the basis of the visa data provided by the Republic of Korea. The Republic of Korea will retransmit all data that was affected by the systems failure when the system is functioning normally.

F. If a shipment from the Republic of Korea is allowed entry into the commerce of the United States with an incorrect ELVIS transmission, or no ELVIS transmission, and redelivery is requested but cannot be made, the shipment will be charged to the applicable category quota.

Other Provisions

A. The date of export is the actual date the merchandise finally leaves the country of exportation. For merchandise exported by vessel, this is the day on which the carrier departs the last port in the country of origin.

B. Merchandise imported for the personal use of the importer and not for resale, regardless of value, and properly marked commercial sample shipments valued at U.S. $800 or less do not require an ELVIS transmission or an exempt certification for entry and shall not be charged to the agreement levels.

C. For exempt products shipments, the paper exempt certification remains unchanged and an ELVIS transmission is not required.

Goods integrated into GATT 1994 in Stages II and III by the United States will not require an ELVIS transmission (see Federal Register notices 63 FR 53881, published on October 7, 1998 and 66 FR 63225, published on December 5, 2001, respectively). An ELVIS transmission will continue to be required for non-integrated products.

The Committee for the Implementation of Textile Agreements has determined that this action fall with the foreign affairs exception to the rulemaking provisions of 5 U.S.C. 553(a)(1).

Sincerely,

D. Michael Hutchinson,

Acting Chairman, Committee for the Implementation of Textile Agreements.

[FR Doc. 03-11528 Filed 5-8-03; 8:45 am]

BILLING CODE 3510-DR-S